DEPARTMENT OF COMMERCE

National Oceanic and Atmospheric Administration

Agency Information Collection Activities; Submission to the Office of Management and Budget (OMB) for Review and Approval; Comment Request; Mandatory Shrimp Vessel and Gear Characterization Survey

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on September 30, 2022 (87 FR 59403) during a 60-day comment period. This notice allows for an additional 30 days for public comments.

Agency: National Oceanic and Atmospheric Association.

Title: Mandatory Shrimp Vessel and Gear Characterization Survey.

OMB Control Number: 0648-0542.

Form Number(s): None.

Type of Request: Regular submission (extension of a current information collection).

Number of Respondents: 1,349.

Average Hours per Response: 30 minutes.

Total Annual Burden Hours: 674.5.

Needs and Uses: The mandatory vessel and gear characterization survey is a census data collection effort of all shrimp vessel owners or operators who possess a valid Federal Gulf commercial shrimp fishing permit. NMFS began collecting these survey data in 2006 under OMB Control No. 0648-0542 per the final rule implementing Amendment 13 to the Fishery Management Plan for the Shrimp Fishery of the Gulf of Mexico (Amendment 13) (71 FR 56039, September 26, 2006).

NMFS is currently collecting census-level information on fishing vessel and gear characteristics in the Gulf of Mexico (Gulf) commercial shrimp fishery (Gulf shrimp fishery), which operates in the Gulf exclusive economic zone. NMFS uses this information to conduct analyses that improve fishery management decision-making and ensure that national goals, objectives, and requirements of the Magnuson-Stevens Fishery Conservation and Management Act (Magnuson-Stevens Act, 16 U.S.C. 1801 et seq.), National Environmental Policy Act, Regulatory Flexibility Act, Endangered Species Act, and Executive Order 12866 are met; and quantify achievement of the performance measures in the NMFS' Operating Plans. This information is vital in assessing the economic, social, and environmental effects of fishery management decisions and regulations on individual shrimp fishing enterprises, fishing communities, and the Nation as a whole. Recordkeeping requirements for this information collection under the Magnuson-Stevens Act are codified at 50 CFR 622.51(a)(3).

Affected Public: Businesses or other for-profit organizations, individuals and households.

Frequency: Reporting occurs annually.

Respondent's Obligation: Mandatory.

Legal Authority: Magnuson-Stevens Fishery Conservation and Management Act.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0542.

Sheleen Dumas,
Department PRA Clearance Officer, Office of the Chief Information Officer, Commerce Department.

[FR Doc. 2022-28223 Filed 12-27-22; 8:45 am]

BILLING CODE 3510-22-P